ENVIRONMENTAL PROTECTION AGENCY

[EPA-HQ-OPP-2008-0143; FRL-8430-8]

State FIFRA Issues Research and Evaluation Group; Full Committee Meeting

AGENCY: Environmental Protection Agency (EPA).

ACTION: Notice.

SUMMARY: The Association of American Pesticide Control Officials (AAPCO)/State FIFRA Issues Research and Evaluation Group (SFIREG), Pesticide Operations and Management (POM) Working Committee will hold a 2-day meeting, beginning on September 21, 2009 and ending September 22, 2009. This notice announces the location and times for the meeting and sets forth the tentative agenda topics.

DATES: The meeting will be held on Monday, September 21, 2009 from 8:30 a.m. to 5 p.m. and 8:30 a.m to 12 noon on Tuesday, September 22, 2009. To request accommodation of a disability, please contact the person listed under FOR FURTHER INFORMATON CONTACT, preferably at least 10 days prior to the meeting, to give EPA as much time as possible to process your request.

ADDRESSES: The open meeting will be held at the EPA, One Potomac Yard (South Bldg.) 2777 Crystal Dr., Arlington, VA., 1st Floor South Conference Room.

FOR FURTHER INFORMATION CONTACT: Ron Kendall, Field and External Affairs Division (7506P), Office of Pesticide Programs, Environmental Protection Agency, 1200 Pennsylvania Ave., NW., Washington, DC 20460-0001; telephone number: (703) 305-5561 fax number: (703) 308-1850; e-mail address: kendall.ron@epa.gov, or Grier Stayton, SFIREG Executive Secretary, P.O. Box 466, Milford DE 19963; telephone number (302) 422-8152; fax (302) 422-2435; e-mail address: grierstayton aapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA).

B. How Can I Get Copies of this Document and Other Related Information?

1. Docket. EPA has established a docket for this action under docket ID number EPA-HQ-OPP-2008-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

Topics may include but are not limited to:

1. Updates to the Section 24(c) registration guidance document.

2. Review of soil fumigant label tables.

3. Refining the Product Use Classification Changes issue paper.

4. PRISM structured e-labeling.

5. Comparative safety statements and DfE labeling.

6. POM Working Committee Workgroups Issue papers/Updates.

7. EPA Update Briefing:

• Office of Pesticide Programs Update.

• Office of Enforcement Compliance Assurance Update.

8. Clarifying allowable carrier volume under FIFRA Section 2(ee).

9. Finalizing acetochlor groundwater protection label language.

III. How Can I Request to Participate in this Meeting?

This meeting is open for the public to attend. You may attend the meeting without further notification. If you want to request to attend as a participant you may also submit a request to participate in this meeting to the person listed under FOR FURTHER INFORMATION CONTACT. Do not submit any information in your request that is considered CBI. Requests to participate in the meeting, identified by docket ID number EPA-HQ-OPP-2008-0143;, must be received on or before September 1, 2009.

List of Subjects

Environmental protection, Pesticides and pest.

Dated: August 7, 2009.
Kevin Keaney
Acting Director, Field and External Affairs Division, Office of Pesticide Programs.

[FR Doc. E9-19531 Filed 8-18-09; 8:45 am]

BILLING CODE 6560-50-S